DEPARTMENT OF HEALTH AND HUMAN SERVICES

Health Resources and Services Administration

Agency Information Collection Activities: Collection: Comment Request

In compliance with the requirement for opportunity for public comment on data collection projects (section 3506(c)(2)(A) of Title 44, United States Code, as amended by the Paperwork Reduction Act of 1995, Public Law 104-13), the Health Resources and Services Administration (HRSA) publishes periodic summaries of projects being developed for submission to OMB under the Paperwork Reduction Act of 1995. To request more information on the project or to obtain a copy of the data collection methods and instruments, call the HRSA Reports Clearance Officer on (301) 443-1891.

Comments are invited on: (a) Whether the continued collection of information is necessary for the proper performance of the functions of the agency, including whether the information shall have practical utility; (b) the accuracy of the agency's estimate of the burden of the collection of information; (c) ways to enhance the quality, utility, and clarity of the information collected; and (d) ways to minimize the burden of the collection of information on respondents, including through the use of automated collection techniques or other forms of information technology.

Project: Evaluation of the Health Care for the Homeless Respite Pilot Initiative (OMB No. 0915-0269)—Extension

The Bureau of Primary Health Care (BPHC), Health Resources and Services Administration, is conducting an extension of an evaluation of the Health Care for the Homeless (HCH) Respite Pilot Initiative. Data are being collected from the ten HCH grantees participating in the Pilot Initiative. The National Health Care for the Homeless Council is conducting the evaluation through a cooperative agreement with the BPHC. The evaluation focuses on assessing the effect of respite services on the health of homeless people as well as examining any differences in outcomes based on client or program characteristics. The evaluation is being conducted throughout the project period of Pilot Initiative.

The estimated response burden is as follows:

Type of respondents | Number of respondents | Responses per respondent | Total responses | Hours per response | Total hour burden
HCH Grantees | 10 | 200 | 2000 | 0.25 | 500
Program data | 10 | 1 | 10 | .5 | 5
Total | 10 |  | 2010 |  | 505

Send comments to Susan G. Queen, Ph.D., HRSA Reports Clearance Officer, Room 14-33, Parklawn Building, 5600 Fishers Lane, Rockville, MD 20857. Written comments should be received within 60 days of this notice.

Dated: May 10, 2004.
Tina M. Cheatham,
Director, Division of Policy Review and Coordination.

[FR Doc. 04-10979 Filed 5-13-04; 8:45 am]

BILLING CODE 4165-15-P